ENVIRONMENTAL PROTECTION AGENCY

[FRL-7557-3]

Public Notice

On September 4, 2003, the U.S. Environmental Protection Agency, Region 9 (“EPA”) entered a Complaint/Consent Agreement and [Proposed] Final Order (“CA/FO”) in In the Matter of J.E. McAmis, Inc. The CA/FO proposes to issue a Final Order pursuant to section 309(g) of the Clean Water Act (CWA), 33 U.S.C. 1319(g), to J.E. McAmis, Inc. (“McAmis”) assessing a civil penalty of $70,000 for violations of section 404 of the CWA.

The CA/FO resolves allegations that McAmis violated section 404 of the CWA on various occasions between August and November 2001 while performing maintenance dredging of the Larkspur Ferry Channel, by discharging dredged material into San Francisco Bay, a “water of the United States,” without CWA authorization. During the project, dredged material was discharged outside of the designated SF-11 disposal site, and other dredged material was discharged in San Francisco Bay that was not authorized to be dredged at all.

Copies of the CA/FO are available on request from the following address: Jessica Kao, ORC-2, U.S. EPA, Region 9, 75 Hawthorne Street, San Francisco, CA 94105, (415) 972-3922.

EPA is required by CWA section 309(g)(4)(A), 33 U.S.C. 1319(g)(4)(A), to provide public notice of and reasonable opportunity to comment on, a proposal to issue an Administrative Order before issuing the Final Order. Persons wishing to comment on the proposed Final Order may do so by submitting written comments, postmarked no later than [Insert Date fifteen days from the date this Notice is published], to the above address.

Any person who comments on the proposal to issue a Final Order shall be given notice of any hearing held in this matter. If a hearing is held, commenters will be entitled to an opportunity to be heard and to present evidence. If no hearing is held, commenters may petition EPA to set aside any subsequent Final Order and to hold a hearing. Commenters may also seek judicial review of the Final Order pursuant to CWA section 309(g)(8), 33 U.S.C. 1319(g)(8).

Dated: September 4, 2003.
Alexis Strauss,
Director, Water Division.

[FR Doc. 03-23163 Filed 9-10-03; 8:45 am]

BILLING CODE 6560-50-P